DEPARTMENT OF ENERGY

Federal Energy Regulatory Commission

[Project No. 14590-001]

Pike Island Energy, LLC; Notice of Intent To File License Application, Filing of Pre-Application Document, Approving Use of the Traditional Licensing Process

a. Type of Filing: Notice of Intent to File License Application and Request to Use the Traditional Licensing Process.

b. Project No.: 14590-001.

c. Dates Filed: May 31, 2017 and June 13, 2017.

d. Submitted By: Pike Island Energy, LLC.

e. Name of Project: Pike Island Hydroelectric Project.

f. Location: At the existing U.S. Army Corps of Engineers' Pike Island Locks and Dam on the Ohio River, in Belmont and Jefferson Counties, Ohio, and Ohio County, West Virginia. The project would occupy United States lands administered by the U.S. Army Corps of Engineers.

g. Filed Pursuant to: 18 CFR 5.3 of the Commission's regulations.

h. Potential Applicant Contact: Alan W. Skelly, J.S., CEO; Pike Island Energy, LLC, 127 Longwood Boulevard, Mount Orab, Ohio 45154; (513) 375-9242; email: awskelly@gmail.com.

i. FERC Contact: Chelsea Hudock at (202) 502-8448; or email at chelsea.hudock@ferc.gov.

j. Pike Island Energy, LLC filed its pre-application document on May 31, 2017. On June 13, 2017, Pike Island Energy, LLC filed its request to use the Traditional Licensing Process, and provided public notice of its request on June 2, 2017. In a letter dated July 18, 2017, the Director of the Division of Hydropower Licensing approved Pike Island Energy, LLC's request to use the Traditional Licensing Process.

k. With this notice, we are initiating informal consultation with the U.S. Fish and Wildlife Service under section 7 of the Endangered Species Act and the joint agency regulations thereunder at 50 CFR, Part 402. We are also initiating consultation with the Ohio State Historic Preservation Officer and West Virginia State Historic Preservation Officer, as required by section 106, National Historic Preservation Act, and the implementing regulations of the Advisory Council on Historic Preservation at 36 CFR 800.2.

l. With this notice, we are designating Pike Island Energy, LLC as the Commission's non-federal representative for carrying out informal consultation pursuant to section 7 of the Endangered Species Act and consultation pursuant to section 106 of the National Historic Preservation Act.

m. Pike Island Energy, LLC filed a Pre-Application Document (PAD); including a proposed process plan and schedule) with the Commission, pursuant to 18 CFR 5.6 of the Commission's regulations.

n. A copy of the PAD is available for review at the Commission in the Public Reference Room or may be viewed on the Commission's Web site (http://www.ferc.gov), using the eLibrary link. Enter the docket number, excluding the last three digits in the docket number field to access the document. For assistance, contact FERC Online Support at FERCONlineSupport@ferc.gov, (866) 208-3676 (toll free), or (202) 502-8659 (TTY). A copy is also available for inspection and reproduction at the address in paragraph h.

o. Register online at http://www.ferc.gov/docs-filing/esubscription.asp to be notified via email of new filing and issuances related to this or other pending projects. For assistance, contact FERC Online Support.

Dated: July 18, 2017.
Kimberly D. Bose,
Secretary.

[FR Doc. 2017-15433 Filed 7-21-17; 8:45 am]

BILLING CODE 6717-01-P